DEPARTMENT OF THE TREASURY

Departmental Offices; Privacy Act of 1974, as Amended

AGENCY: Departmental Offices, Treasury.

ACTION: Notice of Proposed Privacy Act System of Records.

SUMMARY: In accordance with the Privacy Act of 1974, as amended, the Departmental Offices, U.S. Department of the Treasury (“Treasury”) gives notice of the establishment of a Privacy Act System of Records.

DATES: Comments must be received no later than March 17, 2011. The new system of records will be effective March 17, 2011 unless the comments received result in a contrary determination.

ADDRESSES: Comments should be sent to Claire Stapleton, Consumer Financial Protection Bureau Implementation Team, 1801 L Street, NW., Washington, DC 20036. Comments will be made available for inspection upon written request. Treasury will make such comments available for public inspection and copying in Treasury's Library, Room 1428, Main Treasury Building, 1500 Pennsylvania Avenue, NW., Washington, DC 20220, on official business days between the hours of 10 a.m. and 5 p.m. Eastern Time. You can make an appointment to inspect comments by telephoning (202) 622-0990. All comments, including attachments and other supporting materials, will become part of the public record and subject to public disclosure. You should submit only information that you wish to make available publicly.

FOR FURTHER INFORMATION CONTACT: Claire Stapleton, Consumer Financial Protection Bureau Implementation Team, 1801 L. Street, NW., Washington, DC 20036, (202) 435-7220.

SUPPLEMENTARY INFORMATION: The Dodd-Frank Wall Street Reform and Consumer Protection Act (“Act”), Public Law 111-203, Title X, established the Consumer Financial Protection Bureau (“CFPB”). Once fully operational, CFPB will administer, enforce and implement Federal consumer financial protection laws, and, among other powers, will have authority to protect consumers from unfair, deceptive, and abusive practices when obtaining consumer financial products or services. The Act grants Treasury certain “interim authority” to help stand up the agency. The CFPB Implementation Team, currently within Treasury, will maintain the records covered by this notice.

The new system of records described in this notice, Treasury/DO .316—CFPB Implementation Team Benefits and Retirement Systems, will be used to administer the benefits and retirement programs for CFPB Implementation Team employees and assist in personnel management. A description of the new system of records follows this Notice.

The report of a new system of records has been submitted to the Committee on Oversight and Government Reform of the House of Representatives, the Committee on Homeland Security and Governmental Affairs of the Senate, and the Office of Management and Budget, pursuant to Appendix I to OMB Circular A-130, “Federal Agency Responsibilities for Maintaining Records About Individuals,” dated November 30, 2000, and the Privacy Act, 5 U.S.C. 552a(r).

The system of records entitled, “Treasury/DO.316—CFPB Implementation Team Benefits and Retirement Systems” is published in its entirely below.

Dated: January 28, 2011.
Melissa Hartman,
Deputy Assistant Secretary for Privacy, Transparency, and Records.

TREASURY/DO .316

System Name:

CFPB Implementation Team Benefits and Retirement Systems.

System Location:

Consumer Financial Protection Bureau Implementation Team, 1801 L Street, NW., Washington, DC 20036.

Categories of individuals covered by the system:

Current and former CFPB Implementation Team employees and their named dependents and/or beneficiaries and individuals who have been extended offers of employment.

Categories of records in the system:

Records in the system may contain forms or memoranda relating to employees' retirement and benefits programs, and records relating to claims filed for benefits. These programs may include without limitation: health insurance plans, dental insurance plans, vision insurance plans, life insurance plans, wellness plans, travel insurance plans, disability coverage, long term care insurance, accident insurance, flexible spending accounts, premium conversion accounts, public transportation and parking subsidies, employee assistance programs, dependent care referral services, relocation programs, thrift plans, and retirement plans. These records may also include identifiable information regarding both the employee and the employee's named dependents and beneficiaries, including without limitation: name, social security number, account numbers, address, phone number, e-mail address, and date of birth.

Authority for maintenance of the system:

Pub. L. 111-203, Title X, Section 1066, codified at 12 U.S.C. 5586.

Purpose(s):

The information in the system is being collected to enable the CFPB Implementation Team to administer retirement and benefits programs to employees.

Routine uses of records maintained in the system, including categories of users and the purposes of such uses:

These records may be disclosed to:

(1) Other Federal agencies involved in administration of employee retirement and benefits programs and such agencies' contractors or plan administrators, when necessary to determine employee eligibility to participate in retirement and benefits programs, process employee participation in those programs, process claims with respect to individual employee participation in those programs, audit benefits paid under those programs, or perform any other administrative function in connection with those programs or Federal agencies that perform payroll and personnel processing and employee retirement and benefits plan services under interagency agreements or contracts, including the issuance of paychecks to employees, the distribution of wages, the administration of deductions from paychecks for retirement and benefits programs, and the distribution and receipt of those deductions. These agencies include, without limitation, the Department of Labor, the Department of Veterans Affairs, the Social Security Administration, the Federal Retirement Thrift Investment Board, the Department of Defense, the Office of Personnel Management, the Board of Governors of the Federal Reserve System, the Department of the Treasury, and the National Finance Center at the U.S. Department of Agriculture;

(2) National, State or local income security and retirement agencies or entities involved in administration of employee retirement and benefits programs (e.g., State unemployment compensation agencies and State pension plans) and any of such agencies' contractors or plan administrators, when necessary to determine employee eligibility to participate in retirement or employee benefits programs, process employee participation in those programs, process claims with respect to individual employee participation in those programs, audit benefits paid under those programs, or perform any other administrative function in connection with those programs;

(3) Carriers and providers of retirement and benefits plans (including, without limitation, the carriers participating in the Federal Employees Health Benefits (“FEBHB”) Program and the Federal Employees Group Life Insurance (“FEGLI”) Program) when necessary to determine employee eligibility to enroll in such plans, process employee enrollment in such plans, process claims and payments under such plans, and perform any other administrative function in connection with such plans;

(4) An executor of the estate of a current or former employee, a government entity probating the will of a current or former employee, a designated beneficiary of a current or former employee, or any person who is responsible for the care of a current or former employee, where the employee has died, has been declared mentally incompetent, or is under other legal disability, to the extent necessary to assist that person in obtaining any employment benefit or working condition for the employee.

(5) A Federal agency in the executive, legislative or judicial branch of government in connection with the following activities involving a current or former employee: hiring, issuing a security clearance, conducting a security or suitability investigation of an individual, classifying jobs, letting of a contract, issuing licenses, grants, or other benefits by the requesting agency, or a lawful statutory, administrative, or investigative purpose of the agency to the extent that the information is relevant and necessary to the requesting agency's decision;

(6) Appropriate law enforcement agencies or authorities in connection with the investigation and/or prosecution of alleged civil, criminal, and administrative violations;

(7) Congressional offices in response to an inquiry made at the request of the individual to whom the record pertains;

(8) The U.S. Department of Justice (“DOJ”) for its use in providing legal advice to the Treasury or in representing the Treasury in a proceeding before a court, adjudicative body, or other administrative body before which the Treasury is authorized to appear, where the use of such information by the DOJ is deemed by the Treasury to be relevant and necessary to the litigation, and such proceeding names as a party or interests:

(a) The Treasury or any component thereof;

(b) Any employee of the Treasury in his or her official capacity;

(c) Any employee of the Treasury in his or her individual capacity where DOJ has agreed to represent the employee; or

(d) The United States, where the Treasury determines that litigation is likely to affect the Treasury or any of its components.

(9) The National Archives and Records Administration for use in records management inspections;

(10) A contractor or agent who needs to have access to this system of records to perform an assigned activity;

(11) Appropriate agencies, entities, and persons when (a) the Treasury suspects or has confirmed that the security or confidentiality of information in the system of records has been compromised; (b) the Treasury has determined that as a result of the suspected or confirmed compromise there is a risk of harm to economic or property interests, identity theft or fraud, or harm to the security or integrity of this system or other systems or programs (whether maintained by the Treasury or another agency or entity) that rely upon the compromised information; and (c) the disclosure made to such agencies, entities, and persons is reasonably necessary to assist in connection with the Treasury's efforts to respond to the suspected or confirmed compromise and prevent, minimize, or remedy such harm;

(12) A court, magistrate, or administrative tribunal in the course of presenting evidence, including disclosures to opposing counsel or witnesses in the course of civil discovery, litigation, or settlement negotiations;

(13) The Equal Employment Opportunity Commission when requested in connection with investigations or other functions vested in the Commission;

(14) The Merit Systems Protection Board in connection with appeals filed by employees;

(15) A contractor or other entity for the purpose of conducting personnel research or surveys and producing summary descriptive statistics and analytical studies to support the function for which the records are collected and maintained, or for related work force studies. Published statistics and studies will not contain individual identifiers;

(16) Another Federal agency to (a) permit a decision as to access, amendment or correction of records to be made in consultation with or by that agency, or (b) verify the identity of an individual or the accuracy of information submitted by an individual who has requested access to or amendment or correction of records;

(17) The Internal Revenue Service and other jurisdictions which are authorized to tax employees' compensation with wage and tax information in accordance with a withholding agreement with the Treasury pursuant to 5 U.S.C. 5516, 5517, and 5520, for the purpose of furnishing employees with IRS Form W-2 that report such tax distributions; and

(18) Unions recognized as exclusive bargaining representatives under the Civil Service Reform Act of 1978, 5 U.S.C. 7111 and 7114.

Policies and practices for storing, retrieving, accessing, retaining, and dispensing of records in the system:

Storage:

Records maintained in this system are stored electronically and in file folders. Paper copies of individual records are made by the authorized CFPB Implementation Team staff.

Retrievability:

Records are retrievable by a variety of fields including, without limitation, the individual's name, social security number, address, account number, transaction number, phone number, date of birth, or by some combination thereof.

Safeguards:

Access to electronic records is restricted to authorized personnel who have been issued non-transferrable access codes and passwords. Other records are maintained in locked file cabinets or rooms with access limited to those personnel whose official duties require access.

Retention and disposal:

Computer and paper records will be maintained indefinitely until a records disposition schedule is approved by the National Archives Records Administration.

System manager(s) and address:

Consumer Financial Protection Bureau Implementation Team, 1801 L Street, NW., Washington, DC 20036.

Notification procedure:

Individuals seeking notification and access to any record contained in this system of records, or seeking to contest its content, may inquire in writing in accordance with instructions appearing at 31 CFR part 1, subpart C, appendix A. Address such requests to: Director, Disclosure Services Director, Disclosure Services, Department of the Treasury, 1500 Pennsylvania Ave., NW., Washington, DC 20220.

Record access procedures:

See “Notification Procedures” above.

Contesting record procedures:

See “Notification Procedures” above.

Record source categories:

Information in this system is obtained from individuals and entities associated with retirement and benefits administration.

Exemptions claimed for the system:

None.

[FR Doc. 2011-3279 Filed 2-14-11; 8:45 am]

BILLING CODE 4810-25-P